DEPARTMENT OF AGRICULTURE

Rural Utilities Service

East Kentucky Power Cooperative: Notice of Availability of an Environmental Assessment

AGENCY: Rural Utilities Service, USDA.

ACTION: Notice of availability of an Environmental Assessment for public review.

SUMMARY: The Rural Utilities Service, an agency which administers the U.S. Department of Agriculture's Rural Development Utilities Programs (USDA Rural Development) proposes to prepare an Environmental Assessment (EA) related to possible financial assistance to East Kentucky Power Cooperative (EKPC) for the proposed construction of approximately 15.21 miles of 161 kilovolt (kV) electric transmission line in Warren County, Kentucky. EKPC is requesting the USDA Rural Development to provide financial assistance for the proposed project.

DATES: Written comments on this Notice must be received on or before July 20, 2006.

ADDRESSES: The EA will be available for public review at the USDA Rural Development, Utilities Programs, 1400 Independence Avenue, SW., Washington, DC 20250-1571; at the USDA Rural Development's Web site— http://www.usda.gov/rus/water/ees/ea.htm; at EKPC's headquarters office located at 4775 Lexington Road, Winchester, Kentucky 40391; at Warren Rural Electric Cooperative Corporation, 951 Fairview Avenue, Bowling Green, Kentucky 42101; and two Bowling Green Public Library locations:

The Main Library, 1225 State Street, Bowling Green, Kentucky 42101.

The Depot Branch, 401 Kentucky Street, Bowling Green, Kentucky 42101.

Written comments should be sent to: Ms. Stephanie Strength, Environmental Protection Specialist, USDA, Rural Development, Utilities Programs, Engineering and Environmental Staff, 1400 Independence Avenue, SW., Stop 1571, Washington, DC 20250-1571, or e-mail: Stephanie.strength@wdc.usda.gov.

FOR FURTHER INFORMATION CONTACT: Stephanie Strength, Environmental Protection Specialist, USDA, Rural Development, Utilities Programs, Engineering and Environmental Staff, 1400 Independence Avenue, SW., Stop 1571, Washington, DC 20250-1571, Telephone: (202) 720-0468. Ms. Strength's e-mail address is stephanie.strength@wdc.usda.gov.

SUPPLEMENTARY INFORMATION: The proposed project area is located in central Warren County, Kentucky. The proposed route for the new electric transmission line extends westerly following an existing electric utility line rights-of-way (ROW) from an existing substation at an automotive assembly plant located east of Bowling Green, Kentucky, to an existing electric generating station located on the southern side of the Barren River in northern Bowling Green. The proposed route then extends in a general southwesterly direction paralleling an existing electric transmission line from the generating station and following an existing electric transmission line ROW to a point where the route extends due south to connect to an existing electric substation southwest of Memphis Junction, Kentucky.

Alternatives considered by the USDA Rural Development and EKPC included: (a) No action, (b) alternate transmission line routes, and (c) other electrical alternatives. An Environmental Report (ER) that describes the proposed project in detail and discusses its anticipated environmental impacts has been prepared by EKPC. The USDA Rural Development has accepted the ER as its EA of the proposed project. The EA is available for public review at addresses provided above in this Notice.

Questions and comments should be sent to Ms. Stephanie Strength, USDA Rural Development at the mailing or e-mail addresses provided above in this Notice. The USDA Rural Development should receive comments on the EA in writing by July 20, 2006 to ensure that they are considered in its environmental impact determination.

Should the USDA Rural Development determine, based on the EA of the proposed project, that the impacts of the construction and operation of the project would not have a significant environmental impact, it will prepare a Finding of No Significant Impact. Public notification of a Finding of No Significant Impact would be published in the Federal Register and in newspapers with circulation in the project area.

Any final action by the USDA Rural Development related to the proposed project will be subject to, and contingent upon, compliance with all relevant Federal, state and local environmental laws and regulations, and completion of the environmental review requirements as prescribed in the USDA Rural Development's Environmental Policies and Procedures (7 CFR part 1794).

Dated: June 14, 2006.
Mark S. Plank,
Director, Engineering and Environmental Staff, USDA/Rural Development/Utilities Programs.

1

[FR Doc. E6-9642 Filed 6-19-06; 8:45 am]

BILLING CODE 3410-15-P